OFFICE OF PERSONNEL MANAGEMENT

Excepted Service

AGENCY: U.S. Office of Personnel Management (OPM).

ACTION: Notice.

SUMMARY: This notice identifies Schedule A, B, and C appointing authorities applicable to specific agencies that were established or revoked from February 1, 2013, to February 28, 2013.

FOR FURTHER INFORMATION CONTACT: Senior Executive Resources Services, Senior Executive Service and Performance Management, Employee Services, 202-606-2246.

SUPPLEMENTARY INFORMATION: Schedule A, B, and C appointing authorities available for use by all agencies are codified in the Code of Federal Regulations (CFR) in accordance with 5 CFR 213.103. However, as Schedule A, B, and C appointing authorities applicable to a single agency are not codified in the CFR, the Office of Personnel Management (OPM) publishes a notice of agency-specific authorities established or revoked each month in the Federal Register at www.gpo.gov/fdsys/. OPM also publishes annually a consolidated listing of all Schedule A, B, and C appointing authorities current as of June 30 as a notice in the Federal Register.

Schedule A

No schedule A authorities to report during February 2013.

Schedule B

No schedule B authorities to report during February 2013.

Schedule C

The following Schedule C appointing authorities were approved during February 2013.

Agency name | Organization name | Position title | Authorization No. | Effective date
Department of Commerce | Office of White House Liaison | Deputy Director, Office of White House Liaison | DC130024 | 2/19/2013
| Office of White House Liaison | Special Advisor | DC130025 | 2/19/2013
Department of Defense | Office of the Assistant Secretary of Defense (Global Strategic Affairs) | Special Assistant for Global Strategic Affairs | DD130032 | 2/7/2013
| Office of the Assistant Secretary of Defense (International Security Affairs) | Special Assistant for Middle East Affairs | DD130034 | 2/8/2013
| Office of Principal Deputy Under Secretary for Policy | Special Assistant for Strategy, Plans and Forces | DD130041 | 2/13/2013
| Office of the Secretary | Special Assistant for Protocol | DD130037 | 2/15/2013
| Washington Headquarters Services | Staff Assistant | DD130042 | 2/15/2013
Department of Education | Office of the Deputy Secretary | Confidential Assistant | DB130015 | 2/8/2013
| Office of the Under Secretary | Executive Director, White House Initiative for Employment of African Americans | DB130018 | 2/22/2013
| Office of Elementary and Secondary Education | Special Assistant | DB130010 | 2/27/2013
| Office of Postsecondary Education | Special Assistant | DB130019 | 2/27/2013
| Office of Legislation and Congressional Affairs | Confidential Assistant | DB130020 | 2/27/2013
Department of Health and Human Services | Office of the Assistant Secretary for Public Affairs | Senior Advisor for Strategic Planning | DH130038 | 2/15/2013
|  | Senior Speechwriter | DH130040 | 2/15/2013
| Office of Intergovernmental and External Affairs | Regional Director, Kansas City, Missouri, Region VII | DH130041 | 2/19/2013
Department of Homeland Security | U.S. Citizenship and Immigration Services | Special Assistant | DM130041 | 2/15/2013
| Office of the Under Secretary for Science and Technology | Senior Liaison Officer | DM130043 | 2/22/2013
Department of Housing and Urban Development | Office of the Secretary | Senior Advisor for Housing and Services | DU130007 | 2/20/2013
Department of the Interior | Secretary's Immediate Office | Special Assistant for Advance | DI130010 | 2/22/2013
Department of Justice | Office of the Deputy Attorney General | Counsel | DJ130034 | 2/22/2013
| Executive Office for United States Attorneys | Counsel | DJ130035 | 2/27/2013
Department of Labor | Office of the Secretary | Chief Economist | DL130010 | 2/8/2013
Securities and Exchange Commission | Office of the Chairman | Confidential Assistant | SE130003 | 2/20/2013
|  | Confidential Assistant | SE130004 | 2/20/2013
Small Business Administration | Office of Capital Access | Special Advisor for Capital Access | SB130005 | 2/15/2013
Department of Transportation | Assistant Secretary for Governmental Affairs | Associate Director for Governmental Affairs | DT130011 | 2/27/2013
| Secretary | Director of Scheduling and Advance | DT130012 | 2/27/2013
Department of the Treasury | Secretary of the Treasury | Senior Advisor | DY130021 | 2/22/2013

The following Schedule C appointing authorities were revoked during February 2013.

Agency | Organization | Position title | Authorization No. | Vacate date
Department of Commerce | Office of White House Liaison | Deputy Director, Office of White House Liaison | DC120126 | 2/19/2013
| International Trade Administration | Director, Office of Strategic Partnerships | DC110073 | 2/22/2013
Department of Education | Office of The Deputy Secretary | Confidential Assistant | DB110116 | 2/22/2013
Department of Homeland Security | Office of the Assistant Secretary for Policy | Chief of Staff | DM110253 | 2/7/2013
| Office of the Under Secretary for National Protection and Programs Directorate | Special Advisor | DM110208 | 2/8/2013
| Office of the General Counsel | Special Assistant to the General Counsel and Attorney Advisor | DM110028 | 2/9/2013
| U.S. Citizenship and Immigration Services | Special Assistant | DM110272 | 2/23/2013
Department of Justice | Office of Justice Programs | Special Assistant | DJ110010 | 2/9/2013
Department of Labor | Office of the Secretary | Lead Scheduler | DL110019 | 2/24/2013
Department of State | Office of the Secretary | Special Assistant | DS090154 | 2/8/2013
| Bureau of Public Affairs | Senior Advisor | DS090141 | 2/8/2013
| Bureau of East Asian and Pacific Affairs | Special Assistant | DS100027 | 2/8/2013
| Office of the Chief of Protocol | Senior Advisor | DS090288 | 2/9/2013
| Bureau of Western Hemisphere Affairs | Public Affairs Specialist | DS100137 | 2/9/2013
| Foreign Policy Planning Staff | Special Assistant/Speechwriter | DS090231 | 2/11/2013
| Bureau of Information Resources Management | Internet Specialist and Policy and Planning | DS090165 | 2/15/2013
| Office of the Chief of Protocol | Supervisory Protocol of Officer—Visits | DS090229 | 2/15/2013
| Office of the Secretary | Staff Assistant | DS090227 | 2/15/2013
| Bureau of Public Affairs | Special Assistant | DS090190 | 2/16/2013
| Office of the Secretary | Staff Assistant | DS090145 | 2/22/2013
| Foreign Policy Planning Staff | Staff Assistant | DS090212 | 2/22/2013
| Bureau of Public Affairs | Staff Assistant | DS100007 | 2/22/2013
| Bureau of Energy Resources | Staff Assistant | DS090315 | 2/22/2013
| Office of the Secretary | Senior Advisor for Intergovernmental Affairs | DS100057 | 2/22/2013
| Foreign Policy Planning Staff | Staff Assistant | DS090202 | 2/23/2013
Department of the Interior | Office of Congressional and Legislative Affairs | Deputy Director, Congressional and Legislative Affairs | DI100031 | 2/23/2013
Department of Transportation | Assistant Secretary for Governmental Affairs | Associate Director for Governmental Affairs | DT100024 | 2/8/2013
| Administrator | Director of Communications | DT110028 | 2/8/2013
| Assistant Secretary for Transportation Policy | Deputy Director for Public Engagement | DT120025 | 2/19/2013
Export-Import Bank | Board of Directors | Executive Vice President and Chief Operating Officer | EB090004 | 2/1/2013
Office of the Secretary of Defense | Office of Assistant Secretary of Defense (Public Affairs) | Speechwriter | DD110134 | 2/15/2013
| Office of the Secretary | Special Assistant to the Secretary of Defense for Protocol | DD110124 | 2/16/2013
| Washington Headquarters Services | Staff Assistant | DD100183 | 2/23/2013
| Office of the Assistant Secretary of Defense (Global Strategic Affairs) | Special Assistant to the Assistant Secretary of Defense | DD120005 | 2/23/2013
| Office of the Under Secretary of Defense (Policy) | Special Assistant to the Assistant Secretary of Defense (Homeland Defense and America's Security Affairs) | DD120022 | 2/23/2013

Authority: 5 U.S.C. 3301 and 3302; E.O. 10577, 3 CFR, 1954-1958 Comp., p. 218.

U.S. Office of Personnel Management.
Elaine Kaplan,
Acting Director.

[FR Doc. 2013-10722 Filed 5-6-13; 8:45 am]

BILLING CODE 6325-39-P